FEDERAL COMMUNICATIONS COMMISSION

47 CFR Part 73

[DA 02-501, MM Docket No. 01-332, RM-10334]

Television Broadcast Service; Pueblo, CO

AGENCY: Federal Communications Commission.

ACTION: Final rule.

SUMMARY: The Commission, at the request of Zavaletta Broadcasting of Pueblo, an applicant for a construction permit for a new television station to operate on channel 26+ at Pueblo, Colorado, substitutes channel 48 for channel 26+ at Pueblo. See 66 FR 65873, December 21, 2001. TV channel 48 can be allotted to Pueblo, Colorado, in compliance with the principle community coverage requirements of Sections 73.610 and 73.698 at coordinates 38-21-30 N. and 104-33-24 W. with a zero offset.

With this action, this proceeding is terminated.

DATES: Effective April 22, 2002.

FOR FURTHER INFORMATION CONTACT: Pam Blumenthal, Mass Media Bureau, (202) 418-1600.

SUPPLEMENTARY INFORMATION: This is a synopsis of the Commission's Report and Order, MM Docket No. 01-332, adopted March 1, 2002, and released March 6, 2002. The full text of this document is available for public inspection and copying during regular business hours in the FCC Reference Information Center, Portals II, 445 12th Street, SW., Room CY-A257, Washington, DC, 20554. This document may also be purchased from the Commission's duplicating contractor, Qualex International, Portals II, 445 12th Street, SW., Room CY-B402, Washington, DC, 20554, telephone 202-863-2893, facsimile 202-863-2898, or via-e-mail qualexint@aol.com.

List of Subjects in 47 CFR Part 73

Television broadcasting.

Part 73 of Title 47 of the Code of Federal Regulations is amended as follows:

PART 73—[AMENDED]

1. The authority citation for Part 73 continues to read as follows:

Authority: 47 U.S.C. 154, 303, 334, 336.

§ 73.606 [Amended]

2. Section 73.606(b), the Table of Television Allotments under Colorado, is amended by removing TV channel 26+ and adding TV channel 48 at Pueblo.

Federal Communications Commission.
Barbara A. Kreisman,
Chief, Video Services Division, Mass Media Bureau.

[FR Doc. 02-5848 Filed 3-11-02; 8:45 am]

BILLING CODE 6712-01-P